DEPARTMENT OF VETERANS AFFAIRS

Voluntary Service National Advisory Committee; Notice of Meeting

The Department of Veterans Affairs (VA) gives notice under the Federal Advisory Committee Act, 5 U.S.C. App. 2, that the annual meeting of the Department of Veterans Affairs Voluntary Service (VAVS) National Advisory Committee (NAC) will be held on March 4-6, 2013, at the Embassy Suites, Raleigh-Durham Research Triangle Park, 201 Harrison Oaks Boulevard, Cary, North Carolina. On March 14, the meeting will begin at 8 a.m. and end at 11:30 a.m. On March 5-6, the meetings will begin at 8:30 a.m. and end at 4:30 p.m. on March 5 and at 4 p.m. on March 6. The meeting is open to the public.

The Committee, comprised of fifty-four national voluntary organizations, advises the Secretary, through the Under Secretary for Health, on the coordination and promotion of volunteer activities within VA facilities. The purposes of this meeting are to provide for Committee review of volunteer policies and procedures; to accommodate full and open communications between organization representatives and the Voluntary Service Office and field staff; to provide educational opportunities geared towards improving volunteer programs with special emphasis on methods to recruit, retain, place, motivate, and recognize volunteers; and to provide Committee recommendations.

The March 4 session will include a National Executive Committee Meeting, Health Fair, and VAVS Representative and Deputy Representative training session.

The March 5 business session will include remarks from local officials, the Voluntary Service Report, Veterans Health Administration Update, and remarks by VA officials on the My HealtheVet initiative, Patient Centered-Care, and Homelessness. The James H. Parke Memorial Scholarship recipient will be honored at the Parke Awards Luncheon (requires prepayment) to be held at 12 noon. Educational workshops will be held in the afternoon and will focus on student volunteers, developing adaptive sports programs at the facility level, My HealtheVet volunteer program, and national cemetery volunteering.

On March 6, the morning business session will include subcommittee reports, presentations on No One Dies Alone program, suicide prevention, and Make the Connection resources. The educational workshops will be repeated in the afternoon. The meeting will conclude with a Closing Awards Dinner (requires prepayment) recognizing the recipients of the American Spirit Awards, VAVS Award for Excellence, and the NAC male and female Volunteer of the Year awards.

No time will be allocated at this meeting for receiving oral presentations from the public. However, the public may submit written statements for the Committee's review to Ms. Laura Balun, Designated Federal Officer, Voluntary Service Office (10B2A), Department of Veterans Affairs, 810 Vermont Avenue NW., Washington, DC, 20420, or email at Laura.Balun@va.gov. Any member of the public wishing to attend the meeting or seeking additional information should contact Ms. Balun at (202) 461-7300.

Dated: February 20, 2013.
By Direction of the Secretary.
Vivian Drake,
Acting Committee Management Officer.

[FR Doc. 2013-04250 Filed 2-22-13; 8:45 am]

BILLING CODE 8320-01-P